SECURITIES AND EXCHANGE COMMISSION

[Release No. 34-85110; File No. SR-NYSEArca-2018-67]

Self-Regulatory Organizations; NYSE Arca, Inc.; Notice of Withdrawal of a Proposed Rule Change To Amend NYSE Arca Rule 5.2-E(j)(6) Relating to Equity Index-Linked Securities Listing Standards Set Forth in NYSE Arca Rule 5.2-E(j)(6)(B)(I)

February 12, 2019.

On September 10, 2018, NYSE Arca, Inc. (“NYSE Arca”) filed with the Securities and Exchange Commission (“Commission”), pursuant to Section 19(b)(1) of the Securities Exchange Act of 1934 (“Act”) ¹ and Rule 19b-4 thereunder,² a proposed rule change to amend listing standards set forth in NYSE Arca Rule 5.2-E(j)(6)(B)(I) relating to criteria applicable to components of an index underlying an issue of Equity Index-Linked Securities. The proposed rule change was published for comment in the Federal Register on October 1, 2018.³

¹ 15 U.S.C. 78s(b)(1).

² 17 CFR 240.19b-4.

³ See Securities Exchange Act Release No. 84279 (Sept. 25, 2018), 83 FR 49437.

On November 13, 2018, pursuant to Section 19(b)(2) of the Act,⁴ the Commission designated a longer period within which to approve the proposed rule change, disapprove the proposed rule change, or institute proceedings to determine whether to disapprove the proposed rule change.⁵ On December 19, 2018, the Commission instituted proceedings to determine whether to approve or disapprove the proposed rule change.⁶

⁴ 15 U.S.C. 78s(b)(2).

⁵ See Securities Exchange Act Release No. 84576, 83 FR 58315 (Nov. 19, 2018).

⁶ See Securities Exchange Act Release No. 84863, 83 FR 66787 (Dec. 27, 2018).

On February 8, 2019, NYSE Arca withdrew the proposed rule change (SR-NYSEArca-2018-67).

⁷ 17 CFR 200.30-3(a)(12).

For the Commission, by the Division of Trading and Markets, pursuant to delegated authority.⁷
Eduardo A. Aleman,
Deputy Secretary.

[FR Doc. 2019-02607 Filed 2-15-19; 8:45 am]

BILLING CODE 8011-01-P